DEPARTMENT OF THE TREASURY

Internal Revenue Service

Open Meeting of the Taxpayer Advocacy Panel's Toll-Free Phone Line Project Committee; Change

AGENCY: Internal Revenue Service (IRS), Treasury.

ACTION: Notice of meeting; change.

SUMMARY: In the Federal Register notice that was originally published on January 18, 2018, the meeting date has changed.

DATES: The meeting will be held Thursday, March 22, 2018 and Friday, March 23, 2018.

FOR FURTHER INFORMATION CONTACT: Rosalind Matherne at 1-888-912-1227 or 202-317-4115.

SUPPLEMENTARY INFORMATION: Notice is hereby given pursuant to Section 10(a)(2) of the Federal Advisory Committee Act, 5 U.S.C. App. (1988) that an open meeting of the Taxpayer Advocacy Panel Toll-Free Phone Line Project Committee will be held Thursday, March 22, 2018, from 8:00 a.m. to 5:00 p.m. Eastern Time and Friday, March 23, 2018, from 8:00 a.m. until 12:00 p.m. Eastern Time at the IRS Office, Jacksonville, Florida. The public is invited to make oral comments or submit written statements for consideration. Due to limited time and structure of meeting, notification of intent to participate must be made with Rosalind Matherne. For more information please contact Rosalind Matherne at 1-888-912-1227 or 202-317-4115, or write TAP Office, 1111 Constitution Ave. NW, Room 1509, Washington, DC 20224 or contact us at the website: http://www.improveirs.org. The agenda will include various IRS issues.

Dated: February 14, 2018.
Antoinette Ross,
Acting Director, Taxpayer Advocacy Panel.

[FR Doc. 2018-03477 Filed 2-20-18; 8:45 am]

BILLING CODE 4830-01-P